DEPARTMENT OF HEALTH AND HUMAN SERVICES

National Institutes of Health

Government-Owned Inventions; Availability for Licensing

AGENCY: National Institutes of Health.

ACTION: Notice.

SUMMARY: The inventions listed below are owned by an agency of the U.S. Government and are available for licensing in the U.S.

FOR FURTHER INFORMATION CONTACT: Licensing information and copies of the patent applications listed below may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive copies of the patent applications.

SUPPLEMENTARY INFORMATION: This notice is in accordance with 35 U.S.C. 209 and 37 CFR part 404 to achieve commercialization of results of federally-funded research and development. Foreign patent applications are filed on selected inventions to extend market coverage for companies and may also be available for licensing. A description of the technology follows.

Segmented Metallic Guidewires

Description of Technology: The invention pertains to segmented metallic guidewires that are suitable for MRI catheterization. Guidewires contain plurality of short conductive metallic segments that are individually short enough to not resonate during MR imaging. The conductive segments are electrically insulated from each other and mechanically coupled together end-to-end via connectors, such as stiffness matched connectors, to provide a sufficiently long, strong, and flexible guidewire for catheterization that is non-resonant during MRI.

Potential Commercial Applications: Endovascular interventions.

Inventors: Robert Lederman, Ozgur Kocaturk, Burcu Basar (NHLBI).

Intellectual Property: HHS Reference No. E-253-2014/0, U.S. Provisional Patent Application 61/066,167 filed October 20, 2014, International Patent Application PCT/US2015/056266 filed October 19, 2015, European Patent Application 15787824.0 October 19, 2015 and U.S. Patent Application 15/514,744 filed March 27, 2017.

Licensing Contact: Michael Shmilovich, Esq, CLP; 301-435-5019; shmilovm@nih.gov.

Dated: October 18, 2017.
Michael Shmilovich,
Senior Licensing and Patenting Manager, National Heart, Lung, and Blood Institute, Office of Technology Transfer and Development.

[FR Doc. 2017-23178 Filed 10-24-17; 8:45 am]

BILLING CODE 4140-01-P